DEPARTMENT OF THE TREASURY

Office of Foreign Assets Control

31 CFR Part 588

Publication of Western Balkans Stabilization Regulations Web General Licenses 2 and 3

AGENCY: Office of Foreign Assets Control, Treasury.

ACTION: Publication of Web General Licenses.

SUMMARY: The Department of the Treasury's Office of Foreign Assets Control (OFAC) is publishing two general licenses (GLs) issued pursuant to the Western Balkans Stabilization Regulations: GLs 2 and 3, each of which was previously made available on OFAC's website.

DATES: GL 2 and GL 3 were issued on November 16, 2023. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On November 16, 2023, OFAC issued GLs 2 and 3 to authorize certain transactions otherwise prohibited by the Western Balkans Stabilization Regulations, 31 CFR part 588. Each GL was made available on OFAC's website (https://ofac.treasury.gov) when it was issued. GL 2 has an expiration date of March 15, 2024. The text of these GLs is provided below.

OFFICE OF FOREIGN ASSETS CONTROL

Western Balkans Stabilization Regulations

31 CFR Part 588

GENERAL LICENSE NO. 2

Authorizing the Wind Down of Transactions Involving Orka Holding AD

(a) Except as provided in paragraph (b) of this general license, all transactions prohibited by the Western Balkans Stabilization Regulations (WBSR), 31 CFR part 588, that are ordinarily incident and necessary to the wind down of any transaction involving Orka Holding AD, or any entity in which Orka Holding AD owns, directly or indirectly, a 50 percent or greater interest, are authorized through 12:01 a.m. eastern daylight time, March 15, 2024, provided that any payment to a blocked person is made into a blocked account in accordance with the WBSR.

(b) This general license does not authorize any transactions otherwise prohibited by the WBSR, including transactions involving any person blocked pursuant to the WBSR other than the blocked persons described in paragraph (a) of this general license, unless separately authorized.

Bradley T. Smith,

Director, Office of Foreign Assets Control.

Dated: November 16, 2023.

OFFICE OF FOREIGN ASSETS CONTROL

Western Balkans Stabilization Regulations

31 CFR part 588

GENERAL LICENSE NO. 3

Authorizing Certain Transactions Related to Agricultural Commodities, Medicine, Medical Devices, Replacement Parts and Components, Software Updates, or Medical Prevention, Diagnosis, or Treatment, or Clinical Trials Involving Orka Holding AD

(a) Except as provided in paragraph (c) of this general license, all transactions prohibited by the Western Balkans Stabilization Regulations (WBSR), 31 CFR part 588, involving Orka Holding AD, or any entity in which Orka Holding AD owns, directly or indirectly, individually or in the aggregate, a 50 percent or greater interest, related to the following are authorized: (1) the production, manufacturing, sale, transport, or provision of agricultural commodities, agricultural equipment, medicine, medical devices, replacement parts and components for medical devices, or software updates for medical devices; (2) the prevention, diagnosis, or treatment of any disease or medical condition; or (3) the conducting of clinical trials or other medical research.

(b) For the purposes of this general license, agricultural commodities, medicine, and medical devices are defined as follows:

(1) Agricultural commodities. Agricultural commodities are products that fall within the term “agricultural commodity” as defined in section 102 of the Agricultural Trade Act of 1978 (7 U.S.C. 5602) and are intended for use as:

(i) Food for humans (including raw, processed, and packaged foods; live animals; vitamins and minerals; food additives or supplements; and bottled drinking water) or animals (including animal feeds);

(ii) Seeds for food crops;

(iii) Fertilizers or organic fertilizers; or

(iv) Reproductive materials (such as live animals, fertilized eggs, embryos, and semen) for the production of food animals.

(2) Medicine. Medicine is an item that falls within the definition of the term “drug” in section 201 of the Federal Food, Drug, and Cosmetic Act (21 U.S.C. 321).

(3) Medical devices. A medical device is an item that falls within the definition of “device” in section 201 of the Federal Food, Drug, and Cosmetic Act (21 U.S.C. 321).

(c) This general license does not authorize any transactions otherwise prohibited by the WBSR, including transactions involving any person blocked pursuant to the WBSR other than the blocked persons described in paragraph (a) of this general license, unless separately authorized.

Note to General License No. 3. Nothing in this general license relieves any person from compliance with any other Federal laws or requirements of other Federal agencies.

Bradley T. Smith,

Director, Office of Foreign Assets Control.

Dated: November 16, 2023.

Bradley T. Smith,
Director, Office of Foreign Assets Control.

[FR Doc. 2024-04856 Filed 3-6-24; 8:45 am]

BILLING CODE 4810-AL-P